SOCIAL SECURITY ADMINISTRATION

[Docket No: SSA-2023-0040]

Agency Information Collection Activities: Proposed Requests

The Social Security Administration (SSA) publishes a list of information collection packages requiring clearance by the Office of Management and Budget (OMB) in compliance with Public Law (Pub. L.) 104-13, the Paperwork Reduction Act of 1995, effective October 1, 1995. This notice includes extensions and revisions of OMB-approved information collections, new information collections, and an information collection in use without an OMB number.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov. Submit your comments online referencing Docket ID Number [SSA-2023-0040].

(SSA) Social Security Administration, OLCA, Attn: Reports Clearance Director, Mail Stop 3252 Altmeyer, 6401 Security Blvd., Baltimore, MD 21235, Fax: 410-966-2830, Email address: OR.Reports.Clearance@ssa.gov.

Or you may submit your comments online through https://www.reginfo.gov/public/do/PRAMain, referencing Docket ID Number [SSA-2023-0040].

I. The information collections below are pending at SSA. SSA will submit them to OMB within 60 days from the date of this notice. To be sure we consider your comments, we must receive them no later than December 12, 2023. Individuals can obtain copies of the collection instruments by writing to the above email address.

1. Appointed Representative Availability Portal for SSA Hearings—20 CFR 404.929, 404.933, 404.1740, 416.1429, 416.1433, 416.1540, 418.1350, 422.203—0960-NEW. As part of the appeal process, claimants can request a hearing with an Administrative Law Judge. As per sections 20 CFR 404.1740(b)(3)(iii) and 416.1540(b)(3)(iii) of the Code of Federal Regulations (Code), representatives, when asked, have an affirmative duty to provide potential availability for hearings. When the SSA schedules hearings, it usually considers the availability of appointed representatives. Historically, representatives provide their hearing availability to schedulers via telephone or email, using a process for gathering and considering representative availability that is not standardized and varies greatly amongst the regional centralized scheduling units (RCSUs).

In the Spring of 2023, SSA launched a new web-based portal called the Enhanced Representative Availability Process (ERAP) to provide representatives with a uniform, standardized, and streamlined representative availability collection process. The new web-based Representative Availability Portal (Portal) marks the next step in modernizing SSA's scheduling practices for hearings. We expect use of the Portal will result in receiving consistent structured data from appointed representatives, which will allow for a more streamlined and effective hearing scheduling process. The Portal also meets a longstanding customer-experience request by the representative community, one of SSA's key stakeholders in the process.

This collection asks respondents to submit their availability for hearings through the Portal on a rolling, monthly basis. The respondent can be the representative or a delegated official from the appointed representative's firm or Designated Scheduling Group (DSG). The respondents will request availability five months in advance of the hearing. Respondents who chose not to use the Portal will continue to be able to submit their availability via email. Once a submission period closes, SSA will schedule the hearings. SSA will schedule hearings even if a respondent has not submitted the representative's availability.

SSA plans to roll the Portal out to all appointed representatives registered with the Registration, Appointment, and Services for Representatives (RASR) application who regularly conduct business with SSA through RASR. Respondents will need to have a mySocial Security account to use the Portal and be registered into the Portal by SSA systems. Respondents who wish to use the Portal, but who are not registered with RASR, or who do not have a Representative ID, must provide SSA systems with the necessary data, including name and SSN, to complete the Portal registration process. Portal response options will include DSG group, hearing region, availability during the period of submission, and respondent-preferred case maximums, and will allow SSA to obtain the information we require to schedule hearings for attendees.

Respondents are authorized representatives and delegated officials from appointed representative firms or DSG.

Type of Request: Request for a new information collection.

Modality of completion | Number of respondents | Frequency of response | Number of responses | Average burden per response (minutes) | Estimated total annual burden (hours) | Average theoretical hourly cost amount (dollars) * | Total annual opportunity cost (dollars) **
ERAP Portal | 4,000 | 12 | 48,0000 | 20 | 16,000 | * $29.76 | ** $476,160
* We based this figure on average U.S. worker's hourly wages; State and local government worker's salaries; and attorney representative payee wages as reported by Bureau of Labor Statistics data (https://www.bls.gov/oes/current/oes_stru.htm).
** This figure does not represent actual costs that SSA is imposing on recipients of Social Security payments to complete this application; rather, these are theoretical opportunity costs for the additional time respondents will spend to complete the application. There is no actual charge to respondents to complete the application.

2. Medicaid Use Report—20 CFR 416.268—0960-0267. Section 1619(b) of the Social Security Act (Act) and 20 CFR 416.268 of the Code require SSA to determine eligibility for: (1) special Supplemental Security Income (SSI) payments and (2) special SSI eligibility status for a person who works despite a disabling condition. Section 20 CFR 416.268 of the Code also provides that to qualify for special SSI eligibility status, an individual must establish that termination of eligibility for benefits under Title XIX of the Act would seriously inhibit their ability to continue employment. The collected information is used to determine if an individual is entitled to special Title XVI SSI payments and, consequently, to Medicaid or Medi-Cal.

In most cases, if an SSI beneficiary is blind or disabled, regardless of age, and they have Medicaid before beginning to work again, they can retain their Medicaid benefits while continuing to work as long as their disabling condition still exists. During a personal or telephone Redetermination interview with the SSI recipient, an SSA employee asks the following questions:

• Have you used any medical care or services in the past 12 months that were paid for by Medicaid (or Medi-Cal, etc.)?

• Do you expect to receive any medical care or services in the next 12 months that will be paid for by Medicaid (or Medi-Cal, etc.)?

• Without Medicaid (Medi-Cal, etc.), would you be unable to pay your medical bills if you become ill or injured in the next 12 months?

Generally, a response of “yes” to one of those three questions will lead to SSA determining that an SSI recipient whose payments have stopped based on earnings, is entitled to special SSI payments and, consequently, to Medicaid benefits under section 1619 (b) of the Act. The respondents are SSI recipients for whom SSA has stopped payments based on earnings.

Type of Request: Extension of an OMB-approved information collection.

Modality of completion | Number of respondents | Frequency of response | Average burden per response (minutes) | Estimated total annual burden (hours) | Average theoretical hourly cost amount (dollars) * | Average wait time in field offices and teleservice centers (minutes) ** | Total annual opportunity cost (dollars) ***
20 CFR 416.268 SSI Claims System | 99,000 | 1 | 3 | 4,950 | * $12.81 | ** 21 | *** $507,276
* We based this figure on average SSI payments based on SSA's current FY 2023 data (https://www.ssa.gov/legislation/2023factsheet.pdf).
** We based this figure on the average FY 2023 wait times for field offices and teleservice centers, based on SSA's current management information data.
*** This figure does not represent actual costs that SSA is imposing on recipients of Social Security payments to complete this application; rather, these are theoretical opportunity costs for the additional time respondents. There is no actual charge to respondents to complete the application.

3. Appeal of Determination for Extra Help with Medicare Prescription Drug Costs—0960-0695. Public Law 108-173, also known as the Medicare Prescription Drug, Improvement and Modernization Act of 2003 (MMA), amended Title XVIII of the Act to establish a subsidy program to help certain individuals with limited income and resources pay for Medicare Part D prescription drug coverage. This subsidy program is commonly referred to as Extra Help.

Individuals seeking Extra Help may apply via the SSA-1020 paper form or i1020 online application (OMB No. 0960-0696). If SSA determines that the claimant is not eligible for Extra Help, SSA will mail a notice to the claimant indicating the claim is denied. Extra Help denial notices include appeal rights and explain how to request an appeal.

Individuals learn about the appeal process for Extra Help via determination notices, 800# representatives, as well as SSA and CMS websites. Individuals voluntarily initiate the Extra Help appeal process by printing the form from SSA's online website and sending the completed form to SSA, contacting SSA's 800 Number to request an appeal, or going into the field office to request the appeal. If the individual chooses to call the 800# or go into the field office, an SSA technician enters the individual's request into the MAPS system. The request is then electronically sent to the Subsidy Determination Unit, who then schedules an appointment for the appeal and sends an appointment notice to the individual. Individuals who appeal SSA's decision regarding eligibility or continuing eligibility for Medicare Part D Extra Help must complete Form SSA-1021. The respondent may mail the completed form to either the local field office or to the Wilkes-Barre Direct Operations Center. The respondent may also complete the form with assistance from an SSA technician via an in-person interview at the Field Office or over the telephone. All claims are entered into Medicare Application Processing System (MAPS), which automatically adjudicates claims based on the data input by SSA technicians. Respondents are Medicare beneficiaries, or proper applicants acting on behalf of a Medicare beneficiary, who do not agree with the outcome of an SSA Extra Help eligibility determination and want to file an appeal.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1021—(Paper version) | 1,859 | 1 | 10 | 310 | * $29.76 |  | *** $9,226
SSA-1021—(Internet version: MAPS) | 5,291 | 1 | 10 | 882 | * 29.76 | ** 24 | *** 89,220
Totals | 7,150 |  |  | 1,192 |  |  | *** 98,446
* We based this figure on average U.S. worker's hourly wages; State and local government worker's salaries; and attorney representative payee wages as reported by Bureau of Labor Statistics data (https://www.bls.gov/oes/current/oes_stru.htm).
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

Dated: October 10, 2023.
Naomi R. Sipple,
Reports Clearance Officer, Office of Regulations and Reports Clearance, Social Security Administration.

[FR Doc. 2023-22655 Filed 10-12-23; 8:45 am]

BILLING CODE 4191-02-P